DEPARTMENT OF ENERGY

Environmental Management Site-Specific Advisory Board

AGENCY: Office of Environmental Management, Department of Energy.

ACTION: Notice of renewal.

SUMMARY: Pursuant to Section 14(a)(2)(A) of the Federal Advisory Committee Act (Pub. L. 92-463), and in accordance with Title 41, Code of Federal Regulations, Section 102-3.65(a), and following consultation with the Committee Management Secretariat, General Services Administration, notice is hereby given that the Environmental Management Site-Specific Advisory Board (EM SSAB) will be renewed for a two-year period beginning April 11, 2012.

The Board provides advice and recommendations to the Assistant Secretary for Environmental Management (EM) concerning issues affecting the EM program at various sites. These site-specific issues include cleanup standards and environmental restoration; waste management and disposition; stabilization and disposition of non-stockpile nuclear materials; excess facilities; future land use and long-term stewardship; risk assessment and management; and clean-up science and technology activities.

Additionally, the renewal of the EM SSAB has been determined to be essential to the conduct of the Department of Energy's (DOE) mission and to be in the public interest in connection with the performance of duties imposed on the DOE by law and agreement. The Board will operate in accordance with the provisions of the Federal Advisory Committee Act, and rules and regulations issued in implementation of that Act.

FOR FURTHER INFORMATION CONTACT: Ms. Catherine Alexander, Designated Federal Officer, by telephone at (202) 586-7711.

Issued in Washington, DC, on April 11, 2012.
Carol A. Matthews,
Committee Management Officer.

[FR Doc. 2012-9180 Filed 4-16-12; 8:45 am]

BILLING CODE 6450-01-P